DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the Form EIA-1605, “Voluntary Reporting of Greenhouse Gases,” (long form) and the Form EIA-1605EZ, “Voluntary Reporting of Greenhouse Gases,” (short form).

DATES: Comments must be submitted by January 7, 2005, to the addresses listed below.

ADDRESSES: Send all comments to the attention of Stephen E. Calopedis. To ensure receipt of the comments by the due date, submission by e-mail (stephen.calopedis@eia.doe.gov) or FAX (202-586-3045) is recommended. Comments submitted by mail should be sent to Stephen E. Calopedis, U.S. Department of Energy, Energy Information Administration, EI-81, 1000 Independence Avenue, SW., Washington, DC 20585. Questions on this action should be directed to Stephen E. Calopedis at 202-586-1156 or stephen.calopedis@eia.doe.gov.

FOR FURTHER INFORMATION CONTACT: Requests for additional information or copies of existing reporting forms and instructions should be directed to Stephen E. Calopedis at 202-586-1156 or stephen.calopedis@eia.doe.gov. The existing forms and instructions can also be downloaded from the program's Web site at http://www.eia.doe.gov/oiaf/1605/Forms.html.

SUPPLEMENTARY INFORMATION:

I. Background

II. Current Actions

III. Request for Comments

I. Background

The Federal Energy Administration Act of 1974 (Pub. L. 93-275, 15 U.S.C. 761 et seq.) and the DOE Organization Act (Pub. L. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer-term domestic demands.

The EIA, as part of its effort to comply with the Paperwork Reduction Act of 1995 (Pub. L. 104-13, 44 U.S.C. Chapter 35), provides the general public and other Federal agencies with opportunities to comment on collections of information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The Voluntary Reporting of Greenhouse Gases Program collections are conducted pursuant to Section 1605(b) of the Energy Policy Act of 1992 (Pub. L. 102-486, 42 U.S.C. 13385) under General Guidelines issued by the DOE's Office of Policy and International Affairs. The EIA-1605 and EIA-1605EZ forms are designed to collect voluntarily reported data on greenhouse gas emissions, achieved reductions of these emissions, and increased carbon fixation, as well as information on commitments to reduce greenhouse gas emissions and sequester carbon in future years. A summary of the results of the Voluntary Reporting of Greenhouse Gases Program appear in the Program's annual report titled Voluntary Reporting of Greenhouse Gases (http://www.eia.doe.gov/oiaf/1605/vrrpt/). Additionally, EIA produces and makes publicly available, a “public-use” database containing all the non-confidential information reported to EIA's Voluntary Reporting of Greenhouse Gases Program on the Forms EIA-1605 and EIA-1605EZ (http://www.eia.doe.gov/oiaf/1605/databases.html).

Please refer to the existing forms and instructions for more information about the purpose, who may report, when to report, where to submit, the elements to be reported, detailed instructions, provisions for confidentiality, and uses (including possible nonstatistical uses) of the information (http://www.eia.doe.gov/oiaf/1605/Forms.html). For instructions on obtaining materials, see the FOR FURTHER INFORMATION CONTACT section.

II. Current Actions

EIA will be requesting OMB approval for a one-year extension with no changes to the Voluntary Reporting of Greenhouse Gases Program, Forms EIA-1605 and EIA-1605EZ.

This request for a one-year extension of the expiration date of the existing Forms EIA-1605 and EIA-1605EZ is being made to ensure that a data collection instrument is in place while the proposed revised Guidelines to the Voluntary Reporting of Greenhouse Gases Program are in the process of being finalized (see discussion below describing this process). A one-year extension, rather than a three-year extension, is being proposed because EIA anticipates significant changes to the data collection forms and data elements to result from the revisions to the Program Guidelines.

Revised Guidelines for the Voluntary Reporting of Greenhouse Gases Program

On February 14, 2002, President Bush announced a series of programs and initiatives to address the issue of global climate change, including a greenhouse gas intensity reduction goal, energy technology research programs, targeted tax incentives to advance the development and adoption of new technologies, and voluntary programs to promote actions to reduce greenhouse gases. In addition, the President directed the Secretary of Energy, in consultation with the Secretary of Commerce, the Secretary of Agriculture, and the Administrator of the Environmental Protection Agency, to propose improvements to the current Voluntary Reporting of Greenhouse Gases Program required under section 1605(b) of the Energy Policy Act of 1992. These improvements are to enhance measurement accuracy, reliability, and verifiability, working with and taking into account emerging domestic and international approaches. The President also directed the Secretary of Energy to recommend reforms to ensure that businesses and individuals that register reductions are not penalized under a future climate policy and to give transferable credits to companies that can show real emissions reductions.

The purposes of the proposed revised Guidelines are to: (1) Establish revised procedures and reporting requirements for filing voluntary reports, and (2) encourage corporations, government agencies, non-profit organizations, individuals and other private and public entities to submit annual reports of their total entity-wide greenhouse gas emissions, net emission reductions, and carbon sequestration activities that are complete, reliable and consistent.

On May 6, 2002 (67 FR 30370), the Department of Energy solicited public comments on various issues relevant to its efforts to implement the President's directives. After consideration of these public comments, the Secretaries of Energy, Commerce and Agriculture, and the Administrator of the Environmental Protection Agency wrote the President on July 8, 2002, stating that improvements to the existing Voluntary Reporting of Greenhouse Gases Program should:

1. Include fair, objective, and practical methods for reporting baselines, reporting boundaries, calculating real results, and awarding transferable credits for actions that lead to real reductions.

2. Standardize widely accepted, transparent accounting methods.

3. Support independent verification registry reports.

4. Encourage reporters to report greenhouse gas intensity (emissions unit of output) as well as emissions reductions.

5. Encourage corporate or entity-wide reporting.

6. Provide credits for actions to remove carbon dioxide from the atmosphere as well as for actions to reduce emissions.

7. Include a process for evaluating the extent to which past reductions may qualify for credits.

8. Assure that the Voluntary Reporting Program is an effective tool for reaching the President's goal of reducing U.S. greenhouse gas intensity (greenhouse gas emissions per unit of real economic output) by 18 percent over the 2002 to 2012 time frame.

9. Factor in international strategies as well as State-level efforts.

10. Minimize transactions costs for reporters and administrative costs for the Government, where possible, without compromising the foregoing recommendations.

The DOE also held four public workshops (67 FR 64106) in the fall of 2002 to enable interested persons to discuss and provide comments on possible improvements to the Program guidelines. Public comments submitted to DOE's Office of Policy and International Affairs on possible revisions to the Voluntary Reporting of Greenhouse Gases Program Guidelines are available at http://www.pi.energy.gov/enhancingGHGregistry/index.html.

On December 5, 2003 (68 FR 68204), DOE released proposed Revised General Guidelines for the Voluntary Reporting of Greenhouse Gas Program. On January 12, 2004, DOE also held a public workshop to discuss the proposed guidelines and to receive comments. A transcript and audio recording of the proceedings of this workshop are available at http://www.pi.energy.gov/enhancingGHGregistry/proposedguidelines/index.html. Written comments on the proposed revised General Guidelines are available on-line at http://ostiweb.osti.gov/pighg/ghgb0202.idc.

Process for Finalizing and Implementing Revised Program Guidelines

DOE's Office of Policy and International Affairs plans to issue proposed revised General Guidelines for public comment during the Fall of 2004. In parallel with this effort, DOE's Office of Policy and International Affairs intends to issue for public comment proposed revised Technical Guidelines in the Fall of 2004. The Technical Guidelines will specify the methods and factors to be used in measuring and estimating greenhouse gas emissions and emission reductions under the revised General Guidelines. DOE plans to issue in final form all necessary guidelines in 2005. Upon finalization and issuance of the revised Guidelines, EIA plans to develop and issue new reporting forms and instructions for reporting under the revised Program Guidelines.

Given the uncertainty, however, over whether the proposed revised Guidelines will be approved and issued in time to allow EIA to implement a new reporting system in calendar year 2005 to collect calendar year 2004 and earlier data, EIA has chosen to request this one-year extension of the expiration date on the existing forms as an option in the event that the finalization and issuance of the revised Guidelines take longer than expected. It is important to note here that it is not the intent of this notice to solicit comment on the Guideline revision and finalization process above, but rather to extend the expiration date on the existing data collection, Forms EIA-1605 and EIA-1605-EZ, so that EIA has a data collection instrument in place for calendar year 2004 data while the Guideline revision process is completed.

III. Request for Comments

Prospective respondents and other interested parties should comment on the actions discussed in item III. The following issues are provided to assist in the preparation of comments. Please indicate to which form(s) your comments apply.

General Issues: A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information: A. What actions could be taken to help ensure and maximize the quality, objectivity, utility, and integrity of the information to be collected?

B. Are the instructions and definitions clear and sufficient? If not, which instructions need clarification?

C. Can the information be submitted by the due date?

D. Public reporting burden for this collection is estimated to average 40 hours per response on Form EIA-1605 (long form) and 4 hours per response on Form EIA-1605EZ (short form). The estimated burden includes the total time necessary to provide the requested information. In your opinion, how accurate is this estimate?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information to be Collected: A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. 104-13, 44 U.S.C. Chapter 35).

Issued in Washington, DC, November 2, 2004.
Nancy J. Kirkendall,
Director, Statistics and Methods Group, Energy Information Administration.

[FR Doc. 04-24814 Filed 11-5-04; 8:45 am]

BILLING CODE 6450-01-P